DEPARTMENT OF TRANSPORTATION

Federal Aviation Administration

14 CFR Part 39

[Docket No. FAA-2011-0141; Directorate Identifier 2011-NE-06-AD; Amendment 39-16617; AD 2011-05-08]

RIN 2120-AA64

Airworthiness Directives; Turbomeca Model Arriel 1E2, 1S, and 1S1 Turboshaft Engines

AGENCY: Federal Aviation Administration (FAA), DOT.

ACTION: Final rule; request for comments.

SUMMARY: This action supersedes emergency airworthiness directive (AD) 2011-05-51 that was sent previously to all known U.S. owners and operators of the products listed above. That AD requires inspecting the fuel ejector in the body of the fuel ejector assembly for proper installation by checking that the circlip is properly seated in its groove. That AD was prompted by three reports of incorrectly assembled low-pressure fuel system ejectors; with one of them resulting in an uncommanded engine in-flight shutdown. This AD requires the same actions and compliance times as the emergency AD, after receipt of the emergency AD, and expands the AD applicability by including helicopters having one or two affected engines and experiencing no starting difficulties. This AD results from mandatory continuing airworthiness information (MCAI) issued by an aviation authority of another country to identify and correct an unsafe condition on an aviation product. The MCAI describes the unsafe condition as:

In October 2009, Turbomeca issued SB [Service Bulletin] No. 292 73 0826, Version A that instructed operators to check the effectiveness of the bonding of the ejector jet installed on the low-pressure fuel system between the tank and the high-pressure fuel pump.

So far, Turbomeca have been informed of three discrepancies with the reassembly of the ejector following a maintenance procedure performed during accomplishment of Turbomeca SB No. 292 73 0826, Version A.

In all three cases, the discrepancies led to a “one-off” abnormal evolution of gas generator (NG) rating during engine starting. In one of these cases, this resulted in an uncommanded in-flight shutdown, during a cruising phase at 8,000 feet.

We are issuing this AD to prevent uncommanded engine in-flight shutdown of one or both engines in a two-engine helicopter and an emergency autorotation landing or accident.

DATES: This AD becomes effective March 9, 2011.

We must receive comments on this AD by April 4, 2011.

The Director of the Federal Register approved the incorporation by reference of Turbomeca Mandatory Service Bulletin (MSB) No. A292 73 0834, Version B, dated February 8, 2011, listed in the AD as of March 9, 2011.

ADDRESSES: You may send comments by any of the following methods:

• Federal eRulemaking Portal: Go to http://www.regulations.gov and follow the instructions for sending your comments electronically.

• Mail: U.S. Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is the same as the Mail address provided in the ADDRESSES section. Comments will be available in the AD docket shortly after receipt.

FOR FURTHER INFORMATION CONTACT: Rose Len, Aerospace Engineer, Engine Certification Office, FAA, 12 New England Executive Park, Burlington, MA 01803; phone: (781) 238-7772; fax: (781) 238-7199; e-mail: rose.len@faa.gov.

SUPPLEMENTARY INFORMATION:

Discussion

The European Aviation Safety Agency (EASA), which is the Technical Agent for the Member States of the European Community, has issued EASA Airworthiness Directive EASA AD No. 2011-0023-E, dated February 9, 2011 (corrected on February 10, 2011) (referred to after this as “the MCAI”), to correct an unsafe condition for the specified products. The MCAI states:

In October 2009, Turbomeca issued SB [Service Bulletin] No. 292 73 0826, Version A that instructed operators to check the effectiveness of the bonding of the ejector jet installed on the low-pressure fuel system between the tank and the high-pressure fuel pump.

So far, Turbomeca have been informed of three discrepancies with the reassembly of the ejector following a maintenance procedure performed during accomplishment of Turbomeca SB No. 292 73 0826, Version A.

In all three cases, the discrepancies led to a “one-off” abnormal evolution of gas generator (NG) rating during engine starting. In one of these cases, this resulted in an uncommanded in-flight shutdown, during a cruising phase at 8,000 feet.

You may obtain further information by examining the MCAI in the AD docket.

Relevant Service Information

We reviewed Turbomeca MSB No. A292 73 0834, Version B, dated February 8, 2011, and SB No. 292 73 0826, Version B, dated February 4, 2011. This service information describes procedures for inspecting for proper ejector installation.

FAA's Determination and Requirements of This AD

This product has been approved by the aviation authority of France, and is approved for operation in the United States. Pursuant to our bilateral agreement with France, EASA has notified us of the unsafe condition described in the MCAI and service information referenced above. We are issuing this AD because we evaluated all information provided by EASA and determined the unsafe condition exists and is likely to exist or develop on other products of the same type design. This AD requires inspecting the fuel ejector in the body of the fuel ejector assembly for proper installation by checking that the circlip is properly seated in its groove, for all affected engines. This AD requires the same actions and compliance times as emergency AD 2011-05-51, after receipt of the emergency AD, and expands the AD applicability by including helicopters having one or two affected engines and experiencing no starting difficulties.

FAA's Determination of the Effective Date

An unsafe condition exists that requires the immediate adoption of this AD. The FAA has found that the risk to the flying public justifies waiving notice and comment prior to adoption of this rule because of the high risk of uncommanded engine in-flight shutdown of one or both engines in a two-engine helicopter and an emergency autorotation landing or accident.

Comments Invited

This AD is a final rule that involves requirements affecting flight safety, and we did not precede it by notice and opportunity for public comment. We invite you to send any written relevant data, views, or arguments about this AD. Send your comments to an address listed under the ADDRESSES section. Include “Docket No. FAA-2011-0141; Directorate Identifier 2011-NE-06-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact with FAA personnel concerning this AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2011-05-08 Turbomeca: Amendment 39-16617; Docket No. FAA-2011-0141; Directorate Identifier 2011-NE-06-AD.

Effective Date

(a) This airworthiness directive (AD) becomes effective March 9, 2011.

Affected ADs

(b) This AD supersedes emergency AD 2011-05-51, issued on February 15, 2011.

Applicability

(c) This AD applies to Turbomeca Arriel 1E2, 1S, and 1S1 turboshaft engines that have incorporated Turbomeca Service Bulletin (SB) No. 292 73 0826, Version A, dated October 13, 2009, or incorporated Turbomeca Internal Consign No. 298468. These engines are installed on, but not limited to, Eurocopter Deutschland MBB BK117-C2 and BK117-C1, and Sikorsky S-76A series and S-76C series, helicopters.

Reason

(d) This AD was prompted by three reports of incorrectly assembled low-pressure fuel system ejectors; with one of them resulting in an uncommanded engine in-flight shutdown. We are issuing this AD to prevent uncommanded engine in-flight shutdown of one or both engines in a two-engine helicopter and an emergency autorotation landing or accident.

Actions and Compliance

(e) Comply with this AD within the compliance times specified, unless already done.

Fuel Ejector Inspection

(f) Inspect the fuel ejector in the body of the fuel ejector assembly for proper installation by checking that the circlip is properly seated in its groove. Use Paragraph 2.B of the Instructions to be Incorporated, of Turbomeca Mandatory Service Bulletin (MSB) No. A292 73 0834, Version B, dated February 8, 2011 to do the inspection. Inspect at the following compliance times:

(1) For helicopters having at least one of the two affected engines experiencing starting difficulties, inspect within 5 flight hours (FH) after receipt of emergency AD 2011-05-51 or after the effective date of this AD, whichever occurs first.

(2) For helicopters having only one affected engine, and experiencing starting difficulties in that engine, inspect within 20 FH after receipt of emergency AD 2011-05-51 or after the effective date of this AD, whichever occurs first.

(3) For helicopters having one or two affected engines and experiencing no starting difficulties, inspect within 100 FH after the effective date of this AD.

Inspection Results

(g) If you find a fuel ejector improperly installed in the body of the fuel ejector assembly, replace the fuel ejector assembly before further flight with a serviceable fuel ejector assembly.

Definition

(h) For the purpose of this AD, starting difficulties occur when N1 stagnation or variations are encountered. During starting, N1 rise shall be continuous and linear up to ground idle.

Credit for Actions Accomplished in Accordance With Previous Service Information

(i) Inspections and replacements done using Turbomeca MSB No. A292 73 0834, Version A, dated February 4, 2011, or Turbomeca SB No. 292 73 0826, Version B, dated February 4, 2011, before the effective date of this AD, satisfy the requirements of this AD.

Alternative Methods of Compliance (AMOCs)

(j) The Manager, Engine Certification Office, FAA, has the authority to approve AMOCs for this AD, if requested using the procedures found in 14 CFR 39.19.

Related Information

(k) For further information about this AD, contact: Rose Len, Aerospace Engineer, Engine Certification Office, FAA, 12 New England Executive Park, Burlington, MA 01803; phone: (781) 238-7772; fax: (781) 238-7199; e-mail: rose.len@faa.gov.

(l) For copies of the service information referenced in this AD, contact: Turbomeca, 40220 Tarnos, France; phone: 33 559 74 40 00; fax: 33 559 74 45 15; Web site: http://www.turbomeca-support.com. You may review copies of the referenced service information at the FAA, Engine & Propeller Directorate, 12 New England Executive Park, Burlington, MA 01803.

(m) EASA AD No. 2011-0023-E, dated February 9, 2011 (corrected on February 10, 2011), also pertains to this AD.

Material Incorporated by Reference

(n) You must use Turbomeca Mandatory Service Bulletin No. A292 73 0834, Version B, dated February 8, 2011, to do the actions required by this AD, unless the AD specifies otherwise.

(1) The Director of the Federal Register approved the incorporation by reference of this service information under 5 U.S.C. 552(a) and 1 CFR part 51.

(2) For service information identified in this AD, contact Turbomeca, 40220 Tarnos, France; phone: 33 559 74 40 00; fax: 33 559 74 45 15; Web site: http://www.turbomeca-support.com.

(3) You may review copies at the FAA, New England Region, 12 New England Executive Park, Burlington, MA; or at the National Archives and Records Administration (NARA). For information on the availability of this material at NARA, call (202) 741-6030, or go to: http://www.archives.gov/federal-register/cfr/ibr-locations.html.

Issued in Burlington, Massachusetts, on February 22, 2011.
Peter A. White,
Acting Manager, Engine and Propeller Directorate, Aircraft Certification Service.

[FR Doc. 2011-4832 Filed 3-3-11; 8:45 am]

BILLING CODE 4910-13-P